DEPARTMENT OF THE INTERIOR

National Park Service

General Management Plan, Environmental Impact Statement for Lake Meredith National Recreation Area and Alibates Flint Quarries National Monument, Texas

AGENCY: National Park Service, Department of the Interior.

ACTION: Notice of intent to prepare an environmental impact statement (EIS) for the general management plan for Lake Meredith National Recreation Area (NRA) and Alibates Flint Quarries National Monument (NM), Texas.

SUMMARY: Under the provisions of the National Environmental Policy Act of 1969, the National Park Service is preparing an environmental impact statement for the general management plan (GMP) for both the Lake Meredith NRA and the Alibates Flint Quarries NM. The Director, Intermountain Region will approve this statement. Alibates Flint Quarries NM is located immediately adjacent to Lake Meredith NRA. The national recreation area staff administers the national monument. The planning effort will result in a comprehensive general management plan for both sites that encompasses preservation of natural and cultural resources, visitor use and interpretation, and roads, and facilities. In cooperation with local interests, attention will also be given to resources outside the boundaries that affect the integrity of either site. Alternatives to be considered include no action, the preferred alternative and other alternatives addressing the following major issues:

• How can the important natural and cultural resources of Lake Meredith NRA and Alibates Flint Quarries NM be best protected and preserved, while providing for visitor use for present and future generations?

• What level and type of use is appropriate to be consistent with the purpose, and significance of both sites?

• What facilities are needed to meet the mission goals of both sites regarding natural and cultural resource management, visitor use and interpretation, partnerships, and operations?

The National Park Service held joint public scoping meetings regarding the GMP during the week of May 7, 2001. The purpose of these meetings was to explain the planning process and to obtain comments concerning appropriate resource management, desired visitor use, interpretation, facilities; and other issues that need to be resolved. The public was invited to attend any or all of these meetings. The National Park Service is providing the public with an additional 30 days to provide their ideas, concerns and comments on appropriate resource management, desired visitor use, interpretation, facilities and other issues that need to be resolved.

Comments: If you wish to submit issues or provide input to the initial phase of developing the GMP, you may do so mailing your comments to Superintendent, National Park Service, Lake Meredith National Recreation Area, P.O. Box 1460, 419 E. Broadway, Fritch, TX 79036. You may also comment via the Internet to LAMR_Superintendent@nps.gov. Please submit Internet comments as an ASCII file avoiding the use of special characters and any form of encryption. Please also include “Attn: GMP Team” and your name and return address in your Internet message. If you do not receive a confirmation from the system that we have received your Internet message, contact Superintendent Karren Brown directly at telephone (806) 857-3151. Finally you may hand-deliver your comments to park headquarters, 419 E. Broadway, Fritch, TX 79036. Public scoping comments should be received no later than 30 days from the publication of this Notice of Intent. Our practice is to make comments, including names and home addresses of respondents, available for public review during regular business hours. Individual respondents may request that we withhold their home addresses from the record, which we will honor to the extent allowable by law. If you wish us to withhold your name and/or address, you must state this prominently at the beginning of your comment.

FOR FURTHER INFORMATION CONTACT: Contact Superintendent, National Park Service, Lake Meredith National Recreation Area, Telephone: 806-857-3151, Fax: 806-857-2319.

Dated: February 8, 2002.
R. Everhart,
Director, Intermountain Region, National Park Service.

[FR Doc. 02-8630 Filed 4-9-02; 8:45 am]

BILLING CODE 4310-70-P